DEPARTMENT OF JUSTICE

Notice of Lodging of a Consent Decree Pursuant to the Comprehensive Environmental Response, Compensation, and Liability Act

Notice is hereby given that a proposed partial consent decree in United States and State of California v. Oil & Solvent Process Company, Chemical Waste Management, Inc., Fairchild Holding Corporation, and R. H. Peterson Company, Consolidated Cases: CV 98-0760, CV 97-8230, CV 96-6634 TJH was lodged on April 22, 2002, with the United States District Court for Central District of California. The proposed Consent Decree would resolve certain claims against Oil & Solvent Process Company, Chemical Waste Management, Inc., and R. H. Peterson Company under Sections 107 of the Comprehensive Environmental Response, Compensation, and Liability Act of 1980, 42 U.S.C. 9606 & 9607, as amended brought against all of the above captioned defendants to recover response costs incurred by the Environmental Protection Agency in connection with the release of hazardous substances at the San Gabriel Valley Superfund Sites, Suburban Operable Unit (“Site”) in Los Angeles, California. The United States alleges that Settling Defendants are liable as persons who currently own or owned a portion of the Site at the time of disposal of a hazardous substance. Under the proposed partial Consent Decree, the Settling Defendants will pay $950,000, of which $47,500 will be paid to the State of California and $902,500 will be paid to the Hazardous Substances Superfund to reimburse the United States for response costs incurred and to be incurred at the Site.

The Department of Justice will receive, for a period of thirty (30) days from the date of this publication, comments relating to the proposed Consent Decree. Comments should be addressed to the Assistant Attorney General for the Environment and Natural Resources Division, Department of Justice, P.O. Box 7611, Washington, D.C. 20530, and should refer to United States and State of California v. Oil & Solvent Process Company, Chemical Waste Management, Inc., Fairchild Holding Corporation, and R. H. Peterson Company., Consolidated Cases: CV 98-0760, CV 97-8230, CV 96-6634 TJH, DOJ Ref. # 90-11-3-1691.

The Consent Decree may be examined at the Region 9 Office of the Environmental Protection Agency, 75 Hawthorne Street, San Francisco, CA 94105 and the United States Attorney's Office for the Central District of California, Federal Building, 300 North Los Angeles Street, Los Angeles, California 90012 c/o Assistant United States Attorney Suzette Clover. A copy of the proposed consent decree may be obtained by mail from the Consent Decree Library, Post Office Box 7611, Washington, D.C. 20044. In requesting copies please refer to the referenced case and enclose a check in the amount of $12.00 (25 cents per page reproduction costs), payable to the United States Treasury.

Ellen Mahan,
Assistant Section Chief, Environmental Enforcement Section, Environment and Natural Resources Division.

[FR Doc. 02-12875 Filed 5-22-02; 8:45 am]

BILLING CODE 4410-15-M